ENVIRONMENTAL PROTECTION AGENCY

40 CFR Part 80

[AMS-FRL-7520-5]

Clean Diesel Engine Implementation Workshop

AGENCY: Environmental Protection Agency (EPA).

ACTION: Notice of meeting.

SUMMARY: The Environmental Protection Agency (EPA) will be holding a Clean Diesel Engine Implementation Workshop August 6 and 7 in Chicago, IL. The 2007 highway diesel fuel and engine program (66 FR 5002, January 18, 2001) establishes new standards beginning in 2007 for heavy-duty diesel vehicles and a maximum sulfur content of 15 ppm for highway diesel fuel used in those vehicles beginning in 2006. The purpose of this workshop is to assist regulated entities and other stakeholders, including engine manufacturers, truck manufacturers, truck owners and truck operators, with program implementation and compliance. The workshop is being sponsored by the Engine Manufacturers Association (EMA), the American Trucking Associations (ATA), the Manufactures of Emission Control Association (MECA), the Truck Manufacturers Association (TMA), the Truck Renting and Leasing Association (TRALA) and the California Air Resources Board (CARB). EPA will present a summary of the 2007 highway diesel engine and fuel program. The workshop will also include a series of industry panel sessions on developing solutions to program implementation challenges. An agenda for the workshop will be available in early July on the clean diesel web page: http://www.epa.gov/otaq/diesel.htm. If you plan to attend the workshop, please register at http://www.truckline.com/epadieselconference/.

DATES: The workshop will be held on Wednesday, August 6, 2003, and Thursday, August 7, 2003.

ADDRESSES: The workshop will be held at The Hyatt Regency O'Hare Hotel, 9300 W. Bryn Mawr Avenue, Rosemont, Illinois 60018, phone: (847) 696-1234, fax: (847) 698-0139, http://ohare.hyatt.com.

FOR FURTHER INFORMATION CONTACT: Ms. Julia MacAllister, U.S. EPA, National Vehicle and Fuels Emission Laboratory, Assessment and Standards Division, 2000 Traverwood, Ann Arbor, MI 48105; phone: (734) 214-4131, fax: (734) 214-4816, e-mail: macallister.julia@epa.gov.

Dated: June 24, 2003.
Michael R. Haley,
Acting Director, Office of Transportation and Air Quality.

[FR Doc. 03-16587 Filed 6-30-03; 8:45 am]

BILLING CODE 6560-50-P